DEPARTMENT OF TRANSPORTATION

Federal Aviation Administration

14 CFR Part 73

[Docket No. FAA 2001-10527, Airspace Docket No. 01-ASW-10]

RIN 2120-AA66

Amendment to Time of Designation for Restricted Area R-4403; Gainesville, MS

AGENCY: Federal Aviation Administration (FAA), DOT.

ACTION: Final rule.

SUMMARY: This action reduces the time of designation for Restricted Area 4403 (R-4403), Gainesville, MS, from “Continuous,” to “Intermittent, 0600-2300 local time daily; other times by NOTAM 24 hours in advance.” The FAA is taking this action in response to a request from the National Aeronautics and Space Administration (NASA) which is the designated using agency for R-4403.

EFFECTIVE DATE: 0901 UTC, December 27, 2001.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

As a result of a review of restricted area activity, NASA has requested the FAA to reduce the time of operation for R-4403 to more accurately reflect actual requirements for the airspace. This change reduces the burden on the flying public. This action does not alter the boundaries, designated altitudes, or type of activities conducted within the restricted area.

The Rule

This amendment to 14 CFR part 73 changes the time of designation for R-4403, Gainesville, MS, from “continuous” to “Intermittent, 0600-2300 local time daily; other times by NOTAM 24 hours in advance.” The FAA is taking this action in response to written notification from the using agency that a reduction in the time of designation for the restricted area is appropriate.

Since this change reduces the burden on the flying public by reducing the amount of time that R-4403 is activated, and because this action does not affect the boundaries, designated altitudes, or activities conducted therein; I find that notice and public procedures under 5 U.S.C. 553(b) are unnecessary.

Environmental Review

In accordance with FAA Order 1050.1D, “Policies and Procedures for Handling Environmental Impacts,” and the National Environmental Policy Act of 1969, this action is not subject to environmental assessments and procedures.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.44 [Amended]

2. § 73.44 is amended as follows:

* * * * *

R-4403 Gainesville, MS [Amended]

By removing “Time of Designation. Continuous.” and inserting “Time of Designation. Intermittent, 0600-2300 local time daily; other times by NOTAM 24 hours in advance.”

* * * * *

Issued in Washington, DC, on October 18, 2001.
Reginald C. Matthews,
Manager, Airspace and Rules Division.

[FR Doc. 01-26919 Filed 10-24-01; 8:45 am]

BILLING CODE 4910-13-P